DEPARTMENT OF ENERGY

Federal Energy Regulatory Commission

Combined Notice of Filings #1

January 27, 2006.

Take notice that the Commission received the following electric rate filings.

Docket Numbers: ER00-2268-015; EL05-10-006; ER99-4124-013; EL05-11-006; ER00-3312-014; EL05-12-006; ER99-4122-016; EL05-13-006.

Applicants: Pinnacle West Capital Corporation, et al.

Description: Pinnacle West Capital Corp, et al. submit a Delivered Price Test analysis for FERC's information and review in connection with the Pinnacle West Companies' request for market-based rate authority.

Filed Date: 1/20/2006.

Accession Number: 20060126-0026.

Comment Date: 5 p.m. Eastern Time on Friday, February 10, 2006.

Docket Numbers: ER00-3251-009, -010; ER99-754- 011, -012; ER98-1734-009, -010; ER97-3954-019, -020; ER99-1872-010; ER01-1919-006, -007; ER01-513-006, -007; ER99-4124-007; EL05-132-000, -001.

Applicants: Exelon Generating Company, LLC; AmerGen Energy Company, LLC; Commonwealth Edison Company; Unicom Power Marketing, Inc.; PECO Energy Company; Exelon Energy Company; et al.

Description: Exelon Corporation submits compliance Filing and Request for Commission letter of 12/29/05 and Request for extension of time.

Filed Date: 1/19/2006.

Accession Number: 20060119-5081.

Comment Date: 5 p.m. Eastern Time on Thursday, February 9, 2006.

Docket Numbers: ER01-3000-009.

Applicants: Midwest Independent Transmission System Operator, Inc.

Description: Midwest Independent Transmission System Operator, Inc submits the signature page of Michigan South Central Power Agency Agreement.

Filed Date: 1/20/2006.

Accession Number: 20060124-0070.

Comment Date: 5 p.m. Eastern Time on Friday, February 10, 2006.

Docket Numbers: ER06-55-001.

Applicants: Mid-Continent Area Power Pool.

Description: The Mid-Continent Area Power Pool, on behalf of its public utility members, submit Substitute 1st Revised Sheet No. 114 et al. to FERC Electric Tariff, Revised Volume No. 1 in compliance with FERC's 12/19/05 Order.

Filed Date: 1/18/2006.

Accession Number: 20060126-0167.

Comment Date: 5 p.m. Eastern Time on Wednesday, February 8, 2006.

Docket Numbers: ER06-141-001.

Applicants: American Electric Power Service Corporation.

Description: American Electric Power Corp, on behalf of certain operating companies of AEP, submit a proposed amendment to the System Integration Agreement among the indicated operating companies.

Filed Date: 1/19/2006.

Accession Number: 20060126-0169.

Comment Date: 5 p.m. Eastern Time on Thursday, February 9, 2006.

Docket Numbers: ER06-158-001.

Applicants: Midwest Independent Transmission System Operator, Inc.

Description: Midwest Independent Transmission System Operator, Inc submits its supplemental informational filing to its unexecuted Large Generator Interconnection Agreement with Summit Wind, LLC and Interstate Power & Light Company.

Filed Date: 1/20/2006.

Accession Number: 20060126-0027.

Comment Date: 5 p.m. Eastern Time on Friday, February 10, 2006.

Docket Numbers: ER06-356-001.

Applicants: Midwest Independent Transmission System Operator, Inc.

Description: Midwest Independent Transmission System Operator, Inc submits a supplemental filing to the Large Generator Interconnection Procedures in compliance with Order 661-A.

Filed Date: 1/18/2006.

Accession Number: 20060126-0168.

Comment Date: 5 p.m. Eastern Time on Wednesday, February 8, 2006.

Docket Numbers: ER06-480-001.

Applicants: Pacific Gas and Electric Company.

Description: Pacific Gas and Electric Co submits revised calculations to include a corrected gross load for a 12-month period.

Filed Date: 1/19/2006.

Accession Number: 20060126-0170.

Comment Date: 5 p.m. Eastern Time on Thursday, February 9, 2006.

Docket Numbers: ER06-518-000.

Applicants: Kentucky Utilities Company.

Description: Louisville Gas and Electric Co et al. submit an agreement with Big Rivers Electric Corp.

Filed Date: 1/20/2006.

Accession Number: 20060124-0072.

Comment Date: 5 p.m. Eastern Time on Friday, February 10, 2006.

Docket Numbers: ER06-520-000.

Applicants: Attala Transmission LLC.

Description: Attala Transmission, LLC submits its OATT to become effective 1/20/06.

Filed Date: 1/20/2006.

Accession Number: 20060124-0089.

Comment Date: 5 p.m. Eastern Time on Friday, February 10, 2006.

Docket Numbers: ER06-521-000.

Applicants: Mirant New England, LLC.

Description: Mirant New England, LLC cancels its FERC Electric Tariff, Second Revised Rate Schedule No. 1.

Filed Date: 1/20/2006.

Accession Number: 20060124-0075.

Comment Date: 5 p.m. Eastern Time on Friday, February 10, 2006.

Docket Numbers: ER06-522-000.

Applicants: Midwest Independent Transmission System Operator, Inc.

Description: Midwest Independent Transmission System, Inc & Midwest ISO Transmission Owners submit proposed revisions to Attachment N-1 of the Midwest ISO Open Access Transmission & Energy Markets Tariff, Third Revised Vol 1.

Filed Date: 1/20/2006.

Accession Number: 20060124-0076.

Comment Date: 5 p.m. Eastern Time on Friday, February 10, 2006.

Docket Numbers: ER06-523-000.

Applicants: Cinergy Services, Inc.

Description: Cinergy Services Inc, acting as agent for and on behalf of the Cincinnati Gas & Electric Co et al. submit an amendment to the First Supplemental Agreement to the Facility Agreement.

Filed Date: 1/20/2006.

Accession Number: 20060124-0077.

Comment Date: 5 p.m. Eastern Time on Friday, February 10, 2006.

Docket Numbers: ER97-3359-010; ER02-2559-006; ER01-1071-007; ER02-669-007; ER02-2018-007; ER01-2074-007; ER05-222-003; ER00-2391-007; ER98-2494-011; ER06-9-002; ER00-3068-007; ER05-487-003; ER05-1281-003; ER04-127-005; ER03-34-006; ER98-3511-011; ER99-2917-008; ER02-1903-006; ER03-179-007; ER03-1104-003; ER03-1105-003; ER03-1332-003; ER98-3566-014; ER02-1838-007; ER03-1333-004; ER03-1103-003; ER01-838-007; ER98-3563-011; ER98-3564-011; ER02-2120-005; ER01-1972-007; ER98-2076-010; ER03-155-006; ER03-623-007; ER98-4222-006; ER04-290-002; ER01-1710-009; ER04-187-004; ER05-236-005; ER02-2166-006; ER04-947-005; ER01-2139-010; ER03-1375-003; ER99-2948-006; ER00-2918-005; ER00-2917-005; ER05-261-002; ER01-558-004; ER01-557-004; ER01-559-004; ER01-560-004; ER01-556-004; ER01-1654-007; ER01-2641-005; ER02-2567-005; ER05-728-002; ER01-1949-005; ER04-485-002.

Applicants: Florida Power & Light Company; Backbone Mountain Windpower, LLC; Badger Windpower, LLC; Bayswater Peaking Facility, LLC; Blythe Energy, LLC; Calhoun Power Company I, LLC; Diablo Winds, LLC; Doswell Limited Partnership; ESI Vansycle Partners, L.P.; FPL Energy Burleigh County Wind, LLC; FPL Energy Cape, LLC; FPL Energy Cowboy Wind, LLC; FPL Energy Duane Arnold, LLC; FPL Energy Green Power Wind, LLC; FPL Energy Hancock County Wind, LLC; FPL Energy Maine Hydro LLC; FPL Energy MH 50, L.P.; FPL Energy Marcus Hook, L.P.; FPL Energy New Mexico Wind, LLC; FPL Energy North Dakota Wind I, LLC; FPL Energy North Dakota Wind II, LLC; FPL Energy Oklahoma Wind, LLC; FPL Energy Power Marketing, Inc.; FPL Energy Seabrook, LLC; FPL Energy Sooner Wind, LLC; FPL Energy South Dakota Wind, LLC; FPL Energy Vansycle, LLC; FPL Energy Wyman, LLC; FPL Energy Wyman IV, LLC; FPLE Rhode Island Energy, L.P.; Gray County Wind Energy, LLC; Hawkeye Power Partners, LLC; High Winds, LLC; Jamaica Bay Peaking Facility, LLC; Lake Benton Power Partners II, LLC; Meyersdale Windpower LLC; Mill Run Windpower, LLC; North Jersey Energy Associates, A limited partnership; Northeast Energy Associates, A limited partnership; Pennsylvania Windfarms, Inc.; POSDEF Power Company, L.P.; Somerset Windpower, LLC; Waymart Wind Farm, L.P.; Baltimore Gas and Electric Company; Constellation Power Source Generation, Inc.; Calvert Cliffs Nuclear Power Plant, Inc.; Constellation Energy Commodities Group, Inc.; Hollan Energy, LLC; University Park Energy, LLC; WolfHills Energy, LLC; Big Sandy Peaker Plant, LLC; Handsome Lake Energy, LLC; Nine Mile Point Nuclear Station, LLC; High Desert Power Project, LLC; Constellation NewEnergy, Inc.; Constellation Energy Commodities Group Maine, LLC; Power Provider, LLC; RE Ginna Nuclear Power Plant, LLC.

Description: FPL Group, Inc and Constellation Energy Group, Inc submit notification of a pending merger and of the measures that the entities will take to treat one another like affiliates.

Filed Date: 1/18/2006.

Accession Number: 20060126-0166.

Comment Date: 5 p.m. Eastern Time on Wednesday, February 8, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-1437 Filed 2-2-06; 8:45 am]

BILLING CODE 6717-01-P